DEPARTMENT OF LABOR

Employment and Training Administration

Agency Information Collection Activities; Comment Request; Senior Community Service Employment Program (SCSEP) Programmatic and Performance Requirement

ACTION: Notice.

SUMMARY: The Department of Labor's (DOL) Employment and Training Administration (ETA) is soliciting comments concerning a proposed revision to the information collection request (ICR) titled, “Senior Community Service Employment Program (SCSEP).” This comment request is part of continuing Departmental efforts to reduce paperwork and respondent burden in accordance with the Paperwork Reduction Act of 1995 (PRA).

DATES: Consideration will be given to all written comments received by October 3, 2023.

ADDRESSES: A copy of this ICR with applicable supporting documentation, including a description of the likely respondents, proposed frequency of response, and estimated total burden, may be obtained free by contacting Toni Wilson-King by telephone at 202-693-2922, TTY 1-800-877-8339, (this is not a toll-free number), TTY 1-877-889-5627 (this is not a toll-free number), or by email at SCSEPTransition@dol.gov.

Submit written comments about, or requests for a copy of, this ICR by mail or courier to the U.S. Department of Labor, Employment and Training Administration, Office of Workforce Investment, Division of National Programs, Tools and Technical Assistance, Senior Community Service Employment Program, 200 Constitution Avenue NW, Washington, DC; by email: SCSEPTransition@dol.gov; or by Fax 202-693-3015.

FOR FURTHER INFORMATION CONTACT: Toni Wilson-King by telephone at 202-693-2922 (this is not a toll-free number) or by email at SCSEPTransition@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

The purposes of this Information Collection Request are to fulfill the Older Americans Act (Reauthorized by the Supporting Older Americans Act of 2020, Public Law 116-131 (March 25, 2020)), revise SCSEP's Customer Satisfaction Survey collection instruments, ETA 9124A—Participant Survey, ETA 9124B—Host Agency Survey, and ETA 9124C—Employer Survey), and revise the method of administration for the Employer Survey. These changes are required to make the surveys more efficient and less burdensome for respondents, as well as to make them more relevant to the current SCSEP environment and standard business practices (sections 513(b)(1)(E); 42 U.S.C. 3056k(b)(1)(E) and 20 CFR 641.700 and 710).

The SCSEP, authorized by title V of the Older Americans Act (OAA), is the only Federally sponsored employment and training program targeted specifically to low-income, older individuals who want to enter or reenter the workforce. The SCSEP performance measures, as specified in the SCSEP 2018 Final Rule and section 513 of the OAA (42 U.S.C. 3056k, as amended by Pub. L. 114-144) are as follows:

(a) Hours (in the aggregate) of community service employment.

(b) The percentage of project participants who are in unsubsidized employment during the second quarter after exit from the project.

(c) The percentage of project participants who are in unsubsidized employment during the fourth quarter after exit from the project.

(d) The median earnings of project participants who are in unsubsidized employment during the second quarter after exit from the project.

(e) Indicators of effectiveness in serving employers, host agencies, and project participants; and

(f) The number of eligible individuals served, including the number of participating individuals described in subsection (a)(3)(B)(ii) or (b)(2) of section 518.

This information collection measures effectiveness in serving employers, host agencies, and project participants, and is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0040.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected; and

• Minimize the burden of the collection of information on those who are to respond, including using appropriate automated, electronic, mechanical, or other technological collection techniques or other forms of information technology, (e.g., permitting electronic submission of responses).

Agency: DOL-ETA.

Type of Review: Revision.

Title of Collection: Senior Community Service Employment Program (SCSEP).

Forms: ETA 9124A; ETA 9124B; ETA 9124C1 and 9124C2.

OMB Control Number: 1205-0040.

Affected Public: Individuals and households, State, local and Tribal governments, and the private sector (businesses or other for-profits, and not-for-profit institutions).

Estimated Number of Respondents: 18,832.

Frequency: Annually.

Total Estimated Annual Responses: 18,832.

Estimated Average Time per Response: Varies.

Estimated Total Annual Burden Hours: 2,787 hours.

Total Estimated Annual Other Cost Burden: $0.

Authority: 44 U.S.C. 3506(c)(2)(A).

Brent Parton,
Acting Assistant Secretary for Employment and Training, Labor.

[FR Doc. 2023-16667 Filed 8-3-23; 8:45 am]

BILLING CODE 4510-FN-P